DEPARTMENT OF EDUCATION

Office of Special Education and Rehabilitative Services; Overview Information; Personnel Preparation To Improve Services and Results for Children With Disabilities—Preparation of Leadership Personnel; Notice Inviting Applications for New Awards for Fiscal Year (FY) 2005

Catalog of Federal Domestic Assistance (CFDA) Number: 84.325D.

Dates:

Applications Available: March 28, 2005.

Deadline for Transmittal of Applications: May 9, 2005.

Deadline for Intergovernmental Review: July 8, 2005.

Eligible Applicants: Institutions of higher education.

Estimated Available Funds: $4,800,000.

Estimated Range of Awards: $171,969-$200,000.

Estimated Average Size of Awards: $196,200.

Maximum Award: The Secretary does not intend to fund an application that proposes a budget exceeding $200,000 for a single budget period of 12 months.

Estimated Number of Awards: 24.

Note: The Department is not bound by any estimates in this notice.

Project Period: Up to 48 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priority: In accordance with 34 CFR 75.105(b)(2)(v), this priority is from allowable activities specified in the statute (see sections 662(d) and 681(d) of the Individuals with Disabilities Education Act (IDEA)).

Absolute Priority: For FY 2005 this priority is an absolute priority. Under 34 CFR 75.105(c)(3) we consider only applications that meet this priority.

This priority is:

Preparation of Leadership Personnel

This priority supports projects that train personnel at the doctoral or post-doctoral level in early intervention, special education or related services and at the advanced level (masters and specialists) in special education administration. In order to be eligible under this priority, programs must provide training and support for scholars to complete, within the performance period of the grant, a doctoral degree in early intervention, special education or related services or an advanced degree in special education administration.

Note: Training that leads to a Doctor of Audiology (D Aud) degree is not included as part of this priority.

The Preparation of Leadership Personnel Priority is limited to preservice doctoral and post-doctoral preparation of professional personnel in special education, related services and early intervention services for children with disabilities and graduate level training in special education administration and supervision. Therefore, only the following types of programs of study will meet the requirements of the priority:

1. A major in special education, related services or early intervention at the doctoral or post-doctoral level; and

2. Training at the advanced graduate level (masters and specialists programs) in special education administration and supervision.

Projects funded under this absolute priority must—

(a) Demonstrate in the narrative section of the application under “Quality of Project Services” how—

(1) The program prepares personnel to address the specialized needs of children with disabilities from diverse cultural and language backgrounds by—

(i) Identifying the competencies needed for leadership personnel to understand and work with culturally and linguistically diverse populations (the competencies identified should reflect the current knowledge base); and

(ii) Infusing those competencies into early intervention, special education, and related services training programs.

(2) All relevant coursework for the proposed program reflects current research and pedagogy on—

(i) Participation and achievement in the general education curriculum and improved outcomes for children with disabilities; or

(ii) The provision of coordinated services in natural environments to improve outcomes for infants and toddlers with disabilities and their families.

(3) The program offers integrated training and practice opportunities that will enhance the collaborative skills of all personnel who share responsibility for providing effective services for children with disabilities.

(4) For programs that train personnel in early intervention, special education or related services, the program ensures that scholars are knowledgeable about (i) the provisions of the No Child Left Behind Act of 2001 (NCLB) that relate to students with disabilities, (ii) the IDEA and NCLB requirement that teachers be highly qualified, and (iii) the need to foster collaboration between regular and special education teachers.

(5) The proposed training program is aligned with State learning standards for children, if appropriate;

(b) Submit annual data on each scholar who receives grant support. Projects funded under this priority must submit this scholar data electronically within 60 days after the end of each grant budget year. Applicants are encouraged to visit the Personnel Prep Data (PPD) Web site at http://www.osepppd.org for further information. This data collection is in addition to and does not supplant the annual grant performance report required of each grantee for continuation funding (see 34 CFR 75.590);

(c) Budget for a two-day Project Director's meeting in Washington, DC, during each year of the project;

(d) If the project maintains a Web site, include relevant information and documents in a form that meets a government or industry-recognized standard for accessibility;

(e) Provide a detailed description of the program, including the sequence of the courses offered in the program;

(f) Include in the application narrative under “Quality of Project Evaluation”, a clear, effective plan for evaluating the extent to which graduates of the training program have the knowledge and skills necessary to provide research-based instruction and services that result in improved outcomes for children with disabilities;

(g) Communicate student evaluation results to the Office of Special Education Programs (OSEP) in required annual performance reports for continuation funding and the project final performance report;

(h) Certify that all scholars will be recruited into the program with the intention of graduating from the program during the program performance period; and

(i) Certify that the institution will not require scholars recruited into the program to work as a condition of receiving a scholarship, e.g., as graduate assistants, unless the work is required to complete their training program.

Statutory and Other Requirements: To be considered for an award, an applicant must also satisfy the following requirements authorized under sections 662(e) through (h) of IDEA—

(a) Demonstrate that the activities described in the application will address needs identified by the State or States the applicant proposes to serve and that the State or States intend to accept successful completion of the proposed personnel preparation program as meeting State personnel standards or other requirements in State law or regulation for serving children with disabilities or serving infants and toddlers with disabilities (see sections 662(e)(2)(A) and 662(e)(3) of IDEA). Letters from the State or States that the project proposes to serve could be one method for addressing this requirement;

(b) Demonstrate that the applicant and one or more State educational agencies—or, if appropriate, State appointed lead agencies responsible for providing early intervention services—or local educational agencies will cooperate in carrying out and monitoring the proposed project (see section 662(e)(2)(B) of IDEA);

(c) Meet State and professionally recognized standards for the preparation of leadership personnel in special education, related services, or early intervention fields (see section 662(f)(2) of IDEA);

(d) If the program is addressing national or regional needs, demonstrate the existence of the needs through appropriate research data;

(e) Provide an assurance that the applicant will ensure that individuals who receive financial assistance under the proposed project agree to subsequently work in the appropriate field, for a period of 2 years for every year for which the scholarship was received, or repay all or part of the amount of the scholarship, in accordance with section 662(h)(1) of IDEA and the Additional Requirements section of this notice. Applicants must describe how they will inform scholarship recipients of this service obligation requirement; and

(f) As authorized under section 662(g) of IDEA, applicants must designate at least 65 percent of the total requested budget for scholarship support or provide justification for any designation less than 65 percent. Sufficient justification for proposing less than 65 percent of the budget for scholarship support would include expansion of a program, or the addition of a new area of emphasis. Examples include:

• Long distance training programs that may require Web Masters or adjunct professors or mentors in rural areas.

• A project that is expanding or adding a new emphasis area to the program may need additional faculty or other resources such as expert consultants, additional training supplies, or equipment that would enhance the program.

Projects that are funded to develop, expand, or to add a new area of emphasis to special education or related services programs must provide information on how these new areas will be sustained once Federal funding ends.

Additional Requirements: Specific provisions contained in the regulations for this program, which are in 34 CFR part 304, no longer apply because they have been superseded by requirements in IDEA, as recently reauthorized and amended by the Individuals with Disabilities Education Improvement Act of 2004. Accordingly, for purposes of this competition, the following requirements will apply in lieu of the regulations in 34 CFR part 304.

Note: The Secretary will be issuing a notice of proposed rulemaking to amend part 304 to implement these recent changes in IDEA. The Secretary does not expect the final regulations to be substantially different from the requirements in this Additional Requirements section. However, the competition announced in this notice will be governed solely by the requirements in this notice.

Sec. A. Purpose

Individuals who receive scholarship assistance from projects funded under the Special Education—Personnel Development to Improve Services and Results for Children with Disabilities program are required to complete a service obligation, or repay all or part of the costs of such assistance, in accordance with section 662(h) of IDEA and the requirements set forth in this Additional Requirements section of this notice.

Sec. B. Definitions That Apply to This Program

The following definitions apply to this program:

Academic year means—

(1) A full-time course of study—

(i) Taken for a period totaling at least nine months; or

(ii) Taken for the equivalent of at least two semesters, two trimesters, or three quarters; or

(2) For a part-time student, the accumulation of periods of part-time courses of study that is equivalent to an “academic year” under paragraph 1 of this definition.

Early intervention services means early intervention services as defined in section 632(4) of IDEA.

Full-time, for purposes of determining whether an individual is employed full-time in accordance with Sec. F (All references to “Sec.” refer to sections in these Additional Requirements), means a full-time position as defined by the individual's employer or by the agencies served by the individual.

Related services means related services as defined in section 602(26) of IDEA.

Repayment means monetary reimbursement of scholarship assistance in lieu of completion of a service obligation.

Scholar means an individual who is pursuing a degree, license, endorsement, or certification related to special education, related services, or early intervention services and who receives scholarship assistance under section 662 of IDEA.

Scholarship means financial assistance to a scholar for training under the program and includes all disbursements or credits for tuition, fees, student stipends, and books, and travel in conjunction with training assignments.

Service obligation means a scholar's employment obligation, as described in section 662(h) of IDEA and Sec. F.

Special education means special education as defined in section 602(29) of IDEA.

Sec. C. Allowable Costs

In addition to the allowable costs established in EDGAR in 34 CFR 75.530 through 75.562, the following items are allowable expenditures by projects funded under the program:

(a) Tuition and fees.

(b) Student stipends and books.

(c) Travel in conjunction with training assignments.

Sec. D. Requirements for Grantees in Disbursing Scholarships

Before disbursement of scholarship assistance to an individual, a grantee must—

(a) Ensure that the scholar—

(1) Is a citizen or national of the United States;

(2) Is a permanent resident of—

(i) Puerto Rico, the United States Virgin Islands, Guam, American Samoa, or the Commonwealth of the Northern Mariana Islands; or

(ii) The Republic of the Marshall Islands, the Federated States of Micronesia, or the Republic of Palau (during the period in which these entities are eligible to receive an award under the program); or

(3) Provides evidence from the U.S. Department of Homeland Security that the individual is—

(i) A lawful permanent resident of the United States; or

(ii) In the United States for other than a temporary purpose with the intention of becoming a citizen or permanent resident.

(b) Limit scholarship assistance to the amount by which the individual's cost of attendance at the institution exceeds the amount of grant assistance the scholar is to receive for the same academic year under Title IV of the Higher Education Act; and

(c) Obtain a Certification of Eligibility for Federal Assistance from each scholar, as prescribed in 34 CFR 75.60, 75.61, and 75.62.

Sec. E. Assurances That Must Be Provided by a Grantee

Before receiving an award, a grantee that intends to grant scholarships under the program must include in its application an assurance that the following requirements will be satisfied:

(a) Requirement for agreement. Prior to granting a scholarship, the grantee will enter into a written agreement with each scholar that contains the terms and conditions required by Sec. F, explains the Secretary's authority to grant deferrals and exceptions to the service obligation pursuant to Sec. G, and provides the current Department address.

(b) Standards for satisfactory progress. The grantee must establish, notify students of, and apply reasonable standards for measuring whether a scholar is maintaining satisfactory progress in the scholar's course of study.

(c) Exit certification. The grantee must establish policies and procedures for receiving written certification from scholars at the time of exit from the program that identifies—

(1) The number of years the scholar needs to work to satisfy the work requirements in Sec. F(d).

(2) The total amount of scholarship assistance received subject to Sec. F.

(3) The time period, consistent with Sec. F(f)(1), during which the scholar must satisfy the work requirements.

(4) As applicable, all other obligations of the scholar under Sec. F.

(d) Information. The grantee must provide the Secretary information, including records maintained under paragraph (c) of this Sec. E, that is necessary to carry out the Secretary's functions under this Additional Requirements section.

(e) Notification to the Secretary. If the grantee is aware that the scholar has chosen not to fulfill or will be unable to fulfill the obligation under Sec. F(d), the grantee must notify the Secretary when the scholar exits the program.

Sec. F. Requirements for Scholars

Individuals who receive scholarship assistance from grantees funded under this competition must:

(a) Training. Receive the training at the educational institution or agency designated in the scholarship;

(b) Educational allowances. Not accept payment of educational allowances from any other entity if that allowance conflicts with the scholar's obligation under these Additional Requirements;

(c) Satisfactory progress. Maintain satisfactory progress toward the degree, certificate, endorsement, or license as determined by the grantee;

(d) Service obligation. Upon exiting the training program under paragraph (a) of this Sec. F, subsequently maintain employment—

(1) On a full-time or full-time equivalent basis; and

(2) For a period of at least two years for every academic year for which assistance was received.

(e) Eligible employment. In order to meet the requirements of paragraph (d) of this Sec. F for any project funded under section 662 of IDEA, be employed in a position in which—

(1) A majority of the persons to whom the individual provides services are receiving special education, related services, or early intervention services from the individual;

(2) The individual spends a majority of his or her time providing special education or related services to children with disabilities or early intervention services to infants and toddlers with disabilities;

(3) If the position is supervisory, including principals, the individual spends a majority of his or her time employed in a position performing work related to the individual's preparation under section 662 of IDEA by providing one or both of the following:

(i) Special education or related services to children with disabilities or early intervention services to infants and toddlers with disabilities; and

(ii) Supervision to others on issues directly related to special education or related services for children with disabilities or early intervention services for infants and toddlers;

(4) If the position is postsecondary faculty, the individual spends a majority of his or her time performing work related to the individual's preparation under section 662 of IDEA by preparing special education teachers and related services personnel to provide services to improve results for children with disabilities, including early intervention, educational, and transitional services; or

(5) If the position is in research, the individual spends a majority of his or her time performing research related to the individual's preparation under section 662 of IDEA that focuses on improving results for children with disabilities, including early intervention, educational, and transitional services.

(f) Time period. Meet the service obligation under paragraph (d) of this Sec. F as follows:

(1) Complete the service obligation within the period ending not more than the sum of the number of years required in paragraph (d)(2) of this Sec. F, as appropriate, plus three additional years, from the date the recipient completes the training for which the scholarship assistance was awarded.

(2) Obtain employment subsequent to the completion of one academic year of the training for which the scholarship assistance was received that otherwise meets the requirements of Sec. F(f)(1).

(g) Part-time scholars. Meet the service obligation in this Sec. F, as applied to a part-time scholar, based on the accumulated academic years of training for which the scholarship is received.

(h) Information upon exit. Provide the grantee all requested information necessary for the grantee to meet the exit certification requirements under Sec. E(c).

(i) Information after exit. Within 60 days after exiting the program, and as necessary thereafter for any changes, provide the Department all information the Secretary needs to monitor the scholar's service obligation under this Sec. F, including social security number, address, employment setting, and employment status, via U.S. mail at the following address: Office of Special Education Programs, Research to Practice Division, Service Obligation Coordinator, 400 Maryland Avenue, SW., Potomac Center Plaza, Washington, DC 20202-2600.

(j) Repayment. If not fulfilling the requirements in this Sec. F, subject to the provisions in Sec. G regarding a deferral or exception, repay any scholarship received, plus interest, in an amount proportional to the service obligation not completed as follows:

(1) The Secretary charges the scholar interest on the unpaid balance owed in accordance with 31 U.S.C. 3717.

(2)(i) Interest on the unpaid balance accrues from the date the scholar is determined to have entered repayment status under paragraph (4) of this subsection (j).

(ii) Any accrued interest is capitalized at the time the scholar's repayment schedule is established.

(iii) No interest is charged for the period of time during which repayment has been deferred under Sec. G.

(3) Under the authority of 31 U.S.C. 3717, the Secretary may impose reasonable collection costs.

(4) A scholar enters repayment status on the first day of the first calendar month after the earliest of the following dates, as applicable:

(i) The date the scholar informs the grantee or the Secretary that the scholar does not plan to fulfill the service obligation under the agreement.

(ii) Any date when the scholar's failure to begin or maintain employment makes it impossible for that individual to complete the service obligation within the number of years required in this Sec. F.

(iii) Any date on which the scholar discontinues enrollment in the course of study under Sec. F(a).

(5) The scholar must make payments to the Secretary that cover principal, interest, and collection costs according to a schedule established by the Secretary.

(6) Any amount of the scholarship that has not been repaid pursuant to (1) through (5) of this paragraph will constitute a debt owed to the United States that may be collected by the Secretary in accordance with 34 CFR part 30.

Sec. G. Requirements for Obtaining a Deferral or Exception to Performance or Repayment Under an Agreement

(a) Based upon sufficient evidence to substantiate the grounds, the Secretary may grant an exception to the repayment requirement in Sec. F(j), in whole or part, if the scholar—

(1) Is unable to continue the course of study in Sec. F(j) or perform the service obligation because of a permanent disability; or

(2) Has died.

(b) Based upon sufficient evidence to substantiate the grounds, the Secretary may grant a deferral of the repayment requirement in Sec. F(j) during the time the scholar—

(1) Is engaging in a full-time course of study at an institution of higher education;

(2) Is serving on active duty as a member of the armed services of the United States;

(3) Is serving as a volunteer under the Peace Corps Act; or

(4) Is serving as a full-time volunteer under Title I of the Domestic Volunteer Service Act of 1973.

Waiver of Proposed Rulemaking: Under the Administrative Procedure Act (APA) (5 U.S.C. 553) the Department generally offers interested parties the opportunity to comment on proposed priorities and requirements. Section 681(d) of IDEA makes the public comment requirements of the APA inapplicable to the priority in this notice. With respect to the Additional Requirements, section 437(d)(1) of the General Education Provisions Act exempts from the APA's notice and comment requirement rules that apply to the first competition under a new or substantially revised program authority. This is the first competition under section 662(d) of IDEA (the Personnel Development to Improve Services and Results for Children with Disabilities program—Preparation of Leadership Personnel), which was substantially revised by the Individuals with Disabilities Education Improvement Act of 2004. These Additional Requirements will apply to the FY 2005 grant competition only.

Program Authority: 20 U.S.C. 1462 and 1481.

Applicable Regulations: The Education Department General Administrative Regulations (EDGAR) in 34 CFR parts 74, 75, 77, 79, 80, 81, 82, 84, 85, 86, 97, 98, and 99.

II. Award Information

Type of Award: Discretionary grants.

Estimated Available Funds: $4,800,000.

Estimated Range of Awards: $171,969-$200,000.

Estimated Average Size of Awards: $196,200.

Maximum Award: The Secretary does not intend to fund an application that proposes a budget exceeding $200,000 for a single budget period of 12 months.

Estimated Number of Awards: 24.

Note: The Department is not bound by any estimates in this notice.

Project Period: Up to 48 months.

III. Eligibility Information

1. Eligible Applicants: Institutions of higher education.

2. Cost Sharing or Matching: This program does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.325D.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: March 28, 2005.

Deadline for Transmittal of Applications: May 9, 2005.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: July 8, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications

We have been accepting applications electronically through the Department's e-Application system since FY 2000. In order to expand on those efforts and comply with the President's Management Agenda, we are continuing to participate as a partner in the new government wide Grants.gov Apply site in FY 2005. Preparation of Leadership Personnel-CFDA Number 84.325D is one of the competitions included in this project.

If you choose to submit your application electronically, you must use the Grants.gov Apply site (Grants.gov). Through this site, you will be able to download a copy of the application package, complete it offline, and then upload and submit your application. You may not e-mail an electronic copy of a grant application to us. We request your participation in Grants.gov.

You may access the electronic grant application for the Preparation of Leadership Personnel-CFDA Number 84.325D competition at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• If you experience technical difficulties on the application deadline date and are unable to meet the 4:30 p.m., Washington, DC time, deadline, print out your application and follow the instructions in this notice for the submission of paper applications by mail or hand delivery.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you submit your application in paper format.

• You may submit all documents electronically, including all information typically included on the Application for Federal Education Assistance (ED 424), Budget Information—Non-Construction Programs (ED 524), and all necessary assurances and certifications. Any narrative sections of your application should be attached as files in a .DOC (document), .PDF (portable document) or .RTF (rich text) format.

• Your electronic application must comply with any page limit requirements described in this notice.

• After you electronically submit your application, you will receive an automatic acknowledgement from Grants.gov that contains a Grants.gov tracking number. The Department will retrieve your application from Grants.gov and send you a second confirmation by email that will include a PR/Award number (an ED-specified identifying number unique to your application).

• We may request that you provide us original signatures on forms at a later date.

b. Submission of Paper Applications by Mail.

If you submit your application in paper format by mail (through the U.S. Postal Service or a commercial carrier), you must mail the original and two copies of your application, on or before the application deadline date, to the Department at the applicable following address:

By mail through the U.S. Postal Service:

U.S. Department of Education, Application Control Center, Attention: (CFDA Number 84.325D), 400 Maryland Avenue, SW., Washington, DC 20202-4260;

By mail through a commercial carrier:

U.S. Department of Education, Application Control Center—Stop 4260, Attention: (CFDA Number 84.325D), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.325D), 550 12th Street, SW., Room 7041, Potomac Center Plaza, Washington, DC 20202-4260. The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 of EDGAR and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. In addition, to satisfy the requirements of the priority in this notice, you must submit annual data on each scholar who receives grant support through this program.

4. Performance Measures: Under the Government Performance and Results Act (GPRA), the Department has established a set of performance measures that are designed to yield information on the effectiveness of the Personnel Preparation program. These measures include the extent to which scholars are successfully completing their program and the extent to which they are employed in the area(s) trained upon program completion.

If funded, applicants will be required to collect and report data on grant-supported scholars through the PPD Web site at http://www.oespppd.org (see paragraph (b) under the Absolute Priority section of this notice).

Beyond the performance measures specifically described in this notice, the Department is also currently developing measures that will be designed to yield information on various aspects of program quality (e.g., the extent to which the curricula of training programs funded under this competition reflect the current knowledge base on effective practices; and the extent to which program graduates maintain employment for three or more years in the area(s) for which they were trained). Grantees will be asked to participate in assessing and providing information on program quality.

We will notify grantees of the performance measures once they are developed.

VII. Agency Contact

FOR FURTHER INFORMATION CONTACT: Robert Gilmore, U.S. Department of Education, 400 Maryland Avenue, SW., room 4083, Potomac Center Plaza, Washington, DC 20202-2600. Telephone: (202) 245-7354.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 3, 2005.
John H. Hager,
Assistant Secretary for Special Education and Rehabilitative Services.

[FR Doc. 05-5958 Filed 3-24-05; 8:45 am]

BILLING CODE 4000-01-P